DEPARTMENT OF COMMERCE

National Oceanic and Atmospheric Administration

Agency Information Collection Activities; Submission to the Office of Management and Budget (OMB) for Review and Approval; Comment Request; Traffic Coordination System for Space (TraCSS) Registration and Operation

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before June 27, 2025.

ADDRESSES: Interested persons are invited to submit written comments to Adrienne Thomas, NOAA PRA Officer, at NOAA.PRA@noaa.gov. Please reference OMB Control Number 0648-xxxx in the subject line of your comments. All comments received are part of the public record and will generally be posted on https://www.regulations.gov without change. Do not submit Confidential Business Information or otherwise sensitive or protected information.

FOR FURTHER INFORMATION CONTACT: Requests for additional information or specific questions related to collection activities should be directed to Mariel Borowitz, Head of International SSA Engagement, Office of Space Commerce, National Oceanic and Atmospheric Administration, Herbert C. Hoover Building (HCHB), 1401 Constitution Ave. NW, Washington, DC 20230, 617-642-3306, mariel.borowitz@noaa.gov.

SUPPLEMENTARY INFORMATION:

I. Abstract

This is a request for a new collection of information. The Office of Space Commerce (OSC) is developing the Traffic Coordination System for Space (TraCSS) to provide space situational awareness (SSA) data, information, and services that support global spaceflight safety, space sustainability, and international coordination. In order to provide these services, TraCSS will enable spacecraft operators and national governments to register for the system. This will require the provision of information by these users as part of the registration process. Spacecraft operators are also asked to provide relevant operational information on an ongoing basis to facilitate provision of safety services.

The purpose of this collection is to enable TraCSS users (spacecraft operators and national governments) to register and receive spaceflight safety services from the system. The registration information will include organizational contact information, a list of spacecraft associated with that user, and additional attributes associated with that spacecraft. Spacecraft operators will also provide an operational point of contact. In addition to information provided as part of the registration process, spacecraft operators will provide additional information, such as ephemerides with covariance and maneuver plans on an ongoing basis. The provision of this information enables TraCSS to provide spaceflight safety services to users.

II. Method of Collection

Information will be collected via an online registration system (for registration) as well as through an online operational system (for ongoing data).

III. Data

OMB Control Number: 0648-XXXX.

Form Number(s): None.

Type of Review: Regular submission [new information collection].

Affected Public: Business or other for-profit organizations; Not-for-profit institutions; Federal government.

Estimated Number of Respondents: 850.

Estimated Time per Response: Initial registration: 30 minutes; Regular data provision (spacecraft operators): 2 minutes.

Estimated Total Annual Burden Hours: 425 hours.

Estimated Total Annual Cost to Public: $0.

Respondent's Obligation: Voluntary.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this information collection request. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-07238 Filed 4-25-25; 8:45 am]

BILLING CODE 3510-12-P